DEPARTMENT OF ENERGY

Federal Energy Regulatory Commission

Notice of Commission Staff Attendance

The Federal Energy Regulatory Commission (Commission) hereby gives notice that members of the Commission's staff may attend the following meeting related to the transmission planning activities of NorthWestern Corporation, Deseret Generation & Transmission Cooperative, Inc., Portland General Electric Company, Idaho Power Company, and PacifiCorp:

Northern Tier Transmission Group Quarter 1 Stakeholder Meeting

April 12, 2016 10:00 a.m.-3:00 p.m. (PDT)

The above-referenced meeting will be held at: Embassy Suites by Hilton Portland Airport, 7900 NE 82nd Ave., Portland, OR 97220.

The above-referenced meeting is open to stakeholders.

Further information may be found at http://www.nttg.biz/site/.

The discussions at the meeting described above may address matters at issue in the following proceedings:

Docket No. ER16-778, MATL

Docket No. ER16-970, MATL

For more information, contact Natalie Propst, Office of Energy Market Regulation, Federal Energy Regulatory Commission at (202) 502-8896 or natalie.propst@ferc.gov.

Dated: April 7, 2016.
Kimberly D. Bose,
Secretary.

[FR Doc. 2016-08474 Filed 4-12-16; 8:45 am]

BILLING CODE 6717-01-P